DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, September 26, 2012, 1:00 p.m.-7:00 p.m.

ADDRESSES: Sagebrush Inn and Conference Center, 1508 Paseo Del Pueblo Sur, Taos, NM 87571.

FOR FURTHER INFORMATION CONTACT: Menice Santistevan, Northern New Mexico Citizens' Advisory Board (NNMCAB), 94 Cities of Gold Road, Santa Fe, NM 87506. Phone (505) 995-0393; Fax (505) 989-1752 or Email: msantistevan@doeal.gov.

SUPPLEMENTARY INFORMATION: Purpose of the Board: The purpose of the Board is to make recommendations to DOE-EM and site management in the areas of environmental restoration, waste management, and related activities.

Tentative Agenda

1:00 p.m. Call to Order by Deputy Designated Federal Officer (DDFO), Ed Worth

• Establishment of a Quorum: Roll Call and Excused Absences, Staff

• Welcome and Introductions, Ralph Phelps, Chair

• Approval of Agenda and August 29, 2012 Meeting Minutes

1:30 p.m. Public Comment Period

1:45 p.m. Old Business

• Written Reports

• Other Items

2:00 p.m. New Business

• Consideration and Action on Fiscal Year (FY) 2013 Committee Work Plans

• Discuss Meeting Locations and Schedule for 2013

• Appoint Ad Hoc Committee for Annual Self-Evaluation

2:30 p.m. Items from the DDFO, Ed Worth

• Update from DOE

• Other Items

2:45 p.m. Break

3:00 p.m. Presentation of FY 2013 Work Priorities, New Mexico Environment Department (NMED) and DOE

4:00 p.m. Items from Liaison Members

• Los Alamos National Laboratory, Bruce Schappell

• Environmental Protection Agency (Region 6), Ed Worth for Rich Mayer

• Data Input and Validation and Verification Process

4:15 p.m. Update on Chromium

5:00 p.m. Dinner Break on the Patio

6:00 p.m. Public Comment Period

6:15 p.m. Consideration and Action on Draft Recommendation(s) to DOE, Ralph Phelps

6:45 p.m. Wrap-Up and Comments from Board Members, Ralph Phelps

7:00 p.m. Adjourn, Ed Worth, DDFO

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.energy.gov/.

Issued at Washington, DC, on August 27, 2012.
LaTanya R. Butler,
Acting Deputy Committee Management Officer.

[FR Doc. 2012-21554 Filed 8-30-12; 8:45 am]

BILLING CODE 6450-01-P